DEPARTMENT OF JUSTICE

Notice of Lodging of Consent Decree Pursuant to the Clean Air Act

In accordance with 28 CFR 50.7, notice is hereby given that a proposed Consent Decree in United States v. Westvaco Corporation, Civil Action No. 02-30006-KPN, was lodged with the United States District Court for the District of Massachusetts on January 15, 2001. In the complaint in this action, the United States alleges that Westvaco Corporation (“Westvaco”) violated the Clean Air Act, 42 U.S.C. 7401, et seq., at its Springfield, Massachusetts plant by emitting volatile organic carbons from its flexible packaging coating operation at various times at a higher emissions rate than permitted under its State air permit. The complaint also alleges that Westvaco did not timely submit an application for an air permit under Title V of the Clean Air Act. The complaint seeks civil penalties for these violations under section 113 of the Clean Air Act, 42 U.S.C. 7413.

The proposed Consent Decree provides that Westvaco will pay a civil penalty of $117,910. Westvaco closed its flexible packaging operation last year. As part of the settlement, Westvaco also agreed that it would acquire and permanently retire the emissions credits that it was entitled to from the closing of the flexible packaging coating operation.

The Department of Justice will receive comments relating to the proposed Consent Decree for a period of thirty (30) days from the date of this publication. As a result of the discovery of anthrax contamination at the District of Columbia mail processing center in mid-October, 2001, the delivery of regular first-class mail through the U.S. Postal Service is not expected to be received in a timely manner. Therefore, comments should be addressed to the Assistant Attorney General, Environment and Natural Resources Division, Department of Justice, and sent (1) c/o Karen L. Goodwin, Assistant United States Attorney, Federal Building and Courthouse, 1550 Main Street, Room #310, Springfield, Massachusetts 01103; and/or (2) by facsimile to (202) 353-0296; and/or (3) by overnight delivery, other than through the U.S. Postal Service, to Chief, Environmental Enforcement Section, 1425 New York Avenue, NW, 13th Floor, Washington, DC 20005. Each communication should refer on its face to United States v. Westvaco Corporation, D.J. Ref. 90-5-2-1-07312.

The proposed Consent Decree may be examined at the office of the United States Attorney for the District of Massachusetts, Federal Building and Courthouse, 1550 Main Street, Room #310, Springfield, Massachusetts 02114. A copy of the Consent Decree may also be obtained by faxing a request to Tonia Fleetwood, Department of Justice Consent Decree Library, fax no. (202) 616-6584; phone confirmation no. (202) 514-1547. There is a charge for the copy (25 cent per page reproduction cost). Upon requesting a copy, please mail a check, payable to the “U.S. Treasury”, in the amount of $4.00, to: Consent Decree Library, U.S. Department of Justice, P.O. Box 7611, Washington, DC 20044-7611. The check should refer to United States v. Westvaco Corporation, Ref. No. 90-5-2-1-07312.

Ronald G. Gluck,
Assistant Chief, Environmental Enforcement Section, Environment & Natural Resources Division.

[FR Doc. 02-1562 Filed 1-22-02; 8:45 am]

BILLING CODE 4410-15-M